DEPARTMENT OF LABOR

Employment and Training Administration

[TA-W-65,700]

Weyerhaeuser NR Company, Raymond Lumber Mill, Raymond, WA; Notice of Revised Determination Reconsideration

By application dated June 23, 2009, the International Association of Machinists and Aerospace Workers, Woodworkers District Lodge W1 requested administrative reconsideration of the Department's negative determination regarding eligibility for workers and former workers of Weyerhaeuser NR Company, Raymond Lumber Mill, Raymond, Washington (subject firm) to apply for Trade Adjustment Assistance (TAA) and Alternative Trade Adjustment Assistance (ATAA). The Department's Notice of Affirmative Determination Regarding Application for Reconsideration was signed on July 6, 2009, and published in the Federal Register on July 14, 2009 (74 FR 34039).

The initial investigation resulted in a negative determination issued on June 5, 2009, was based on the finding that imports of softwood dimensional lumber did not contribute importantly to worker separations at the subject firm and no shift in production to a foreign source occurred.

On reconsideration, the Department requested an additional list of customers of the subject firm and conducted a customer survey to determine whether imports of softwood dimensional lumber negatively impacted employment at the subject firm.

The survey of the declining customers revealed that a major declining customer increased its reliance on imported softwood dimensional lumber during the relevant period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Weyerhaeuser NR Company, Raymond Lumber Mill, Raymond, Washington, contributed importantly to the declines in sales or production and to the total or partial separation of workers at the subject firm. In accordance with the provisions of the Act, I make the following certification:

All workers of Weyerhaeuser NR Company, Raymond Lumber Mill, Raymond, Washington, who became totally or partially separated from employment on or after March 23, 2008, through two years from the date of this certification, are eligible to apply for adjustment assistance under Section 223 of the Trade Act of 1974, and are eligible to apply for alternative trade adjustment assistance under Section 246 of the Trade Act of 1974.

Signed in Washington, DC this 1st day of September 2009.
Elliott S. Kushner,
Certifying Officer, Division of Trade Adjustment Assistance.

[FR Doc. E9-22749 Filed 9-21-09; 8:45 am]

BILLING CODE 4510-FN-P